DEPARTMENT OF ENERGY

Federal Energy Regulatory Commission

Sunshine Act Meeting

May 18, 2005.

The following notice of meeting is published pursuant to section 3(a) of the government in the Sunshine Act (Pub. L. 94-409), 5 U.S.C 552b:

Agency Holding Meeting: Federal Energy Regulatory Commission, Energy.

Date and Time: May 25, 2005, 10 a.m.

Place: Room 2C, 888 First Street, NE., Washington DC 20426.

Status: Open.

Matters To Be Considered: Agenda. * Note—Items listed on the agenda may be deleted without further notice.

Contact Person For More Information: Magalie R. Salas, Secretary, Telephone (202) 502-8400. For a recorded listing items stricken from or added to the meeting, call (202) 502-8627.

This is a list of matters to be considered by the Commission. It does not include a listing of all papers relevant to the items on the agenda; however, all public documents may be examined in the Public Reference Room.

890th—Meeting
Item No. | Docket No. | Company
Administrative Agenda
A-1 | AD02-1-000 | Agency Administrative Matters.
A-2 | AD02-7-000 | Customer Matters, Reliability, Security and Market Operations.
Markets, Tariffs, and Rates—Electric
E-1 | RM05-4-000 | Interconnections for Wind Energy
E-2 | RM05-16-000 | Generator Run Status Information.
E-3 | RM05-17-000 | Information Requirements for Available Transfer Capability.
E-4 | RM04-12-000 | Accounting and Financial Reporting for Public Utilities Including RTOs.
E-5 | PL05-1-000 | Market Monitoring Units in Regional Transmission Organizations and Independent System Operators.
E-6 | PL03-1-000 | Pricing Policy for Efficient Operation and Expansion of Transmission Grid.
E-7 | OMITTED
E-8 | OMITTED
E-9 | OMITTED
E-10 | ER05-754-000 | ISO New England Inc., New England Transmission; Owners: Boston Hydro-Electric Company, Boston Edison Company, Cambridge Electric Light Company, Commonwealth Electric Company, Central Maine Power Company, Central Vermont Public Service Corporation, Green Mountain Power Corporation, New England Power Company, Northeast Utilities Service Company, The United Illuminating Company, and Vermont Electric Cooperative, Inc.
|  | Asset Owners in the United States portion of the Hydro-Quebec High Voltage Direct Current Transmission Facilities: New England Electric Transmission Corporation, Vermont Electric Transmission Company, New England Hydro-Transmission Electric Company, Inc and New England Hydro-Transmission Corporation.
E-11 | ER05-741-000 | Public Service Company of New Mexico.
E-12 | ER05-742-000 | Cambridge Electric Light Company and Commonwealth Electric Company.
E-13 | ER05-763-000, ER04-1209-000, EL05-29-000, ER05-410-000 | Southern California Edison Company.
E-14 | ER05-794-000, ER05-809-000 | Midwest Independent Transmission System Operator, Inc.
E-15 | ER05-802-000 | Midwest Independent Transmission System, Operator, Inc.
E-16 | ER05-797-000 | Orange and Rockland Utilities, Inc.
E-17 | ER05-816-000 | CES Marketing VI, LLC.
| ER05-817-000 | CES Marketing VII, LLC.
| ER05-818-000 | CES Marketing VIII, LLC.
| ER05-819-000 | CES Marketing IX, LLC.
| ER05-820-000 | CES Marketing X, LLC.
| ER01-480-003, ER01-480-004 | Mobile Energy, LLC.
| ER01-915-002, ER01-915-003 | CPN Pleasant Hill, LLC.
E-18 | ER05-725-000, ER05-725-001 | Deephaven RV Sub Fund Ltd.
E-19 | ER98-2329-003, ER98-2329-004, ER98-2329-005 | Central Vermont Public Service Corporation.
E-20 | OMITTED
E-21 | ER04-156-006 | Allegheny Power System Operating Companies: Monongahela Power Company, Potomac Edison Company, and West Penn Power Company, all d/b/a Allegheny Power.
|  | PHI Operating Companies: Potomac Electric Power Company, Delmarva Power & Light Company, and Atlantic City Electric Company; Baltimore Gas and Electric Company; Jersey Central Power & Light Company; Metropolitan Edison Company; PECO Energy Company; Pennsylvania Electric Company; PPL Electric Utilities Corporation; Public Service Electric and Gas Company; Rockland Electric Company; and UGI Utilities, Inc.
| ER05-513-000 | PJM Interconnection L.L.C.
| ER05-515-000 | Baltimore Gas and Electric Company, and PEPCO Holdings Inc. operating affiliates: Potomac Electric Power Company, Delmarva Power & Light Company and Atlantic City Electric Company.
E-22 | OMITTED
E-23 | ER04-691-034, ER04-691-035, EL04-104-032, EL04-104-033 | Midwest Independent Transmission System Operator, Inc.
E-24 | ER04-691-029 | Midwest Independent Transmission System Operator, Inc.
| EL04-104-028 | Public Utilities With Grandfathered Agreements in Midwest ISO Region.
E-25 | ER01-205-007, ER01-205-005, ER01-205-004 | Xcel Energy Services, Inc.
| ER98-2640-005, ER98-2640-004 | Northern States Power Company and Northern States Power Company (Wisconsin).
| ER98-4590-003, ER98-4590-002 | Public Service Company of Colorado.
| ER99-1610-010, ER99-1610-009, ER99-1610-008 | Southwestern Public Service Company and New Century Services, Inc.
E-26 | ER01-1527-004, ER01-1527-005, ER01-1527-006 | Sierra Pacific Power Company.
| ER01-1529-004, ER01-1529-005, ER01-1529-006 | Nevada Power Company.
E-27 | ER01-2537-001 | CalPeak Power—Midway LLC.
| ER01-2543-001 | CalPeak Power—Panoche LLC.
| ER01-2544-001 | CalPeak Power—Vaca Dixon LLC.
| ER01-2545-001 | CalPeak Power—El Cajon LLC.
| ER01-2546-001 | CalPeak Power—Enterprise LLC.
| ER01-2547-001 | CalPeak Power—Border LLC.
E-28 | ER04-1248-002 | Union Light, Heat and Power Company and Cincinnati Gas & Electric Company.
E-29 | ER02-388-003 | HC Power Marketing LLC.
E-30 | ER04-829-004, ER04-829-005 | PJM Interconnection, L.L.C. and Virginia Electric and Power Company.
E-31 | ER97-851-012, ER97-851-013, ER97-851-015 | H.Q. Energy Services (U.S.) Inc.
E-32 | ER97-4345-015, ER97-4345-014, ER97-4345-016 | OGE Energy Resources, Inc.
| ER98-511-003, ER98-511-002, ER98-511-004 | Oklahoma Gas and Electric Company.
E-33 | OMITTED
E-34 | ER99-3855-003 | Cleco Power LLC.
| ER99-2300-005, ER99-2300-004 | Cleco Marketing & Trading LLC.
| ER99-2928-002, ER99-2928-001 | Cleco Evangeline LLC.
| ER01-1397-003, ER01-1397-002 | Perryville Energy Partners, L.L.C.
| ER02-1406-005, ER02-1406-004, ER02-1406-001 | Acadia Power Partners, LLC.
| ER01-2887-003 | South Point Energy Center, LLC.
| ER99-2858-005, ER99-2858-003, ER99-2858-002 | MEP Pleasant Hill, LLC.
| ER01-2688-005 | Gilroy Energy Center, LLC.
| ER99-3855-002 | Cleco Power LLC.
E-35 | ER99-2541-005, ER99-2541-006 | Carthage Energy, LLC.
| ER97-3556-012, ER97-3556-013, ER97-3556-014 | Energetix, Inc.
| ER99-221-007, ER99-221-009 | New York State Electric & Gas Corporation.
| ER99-220-010, ER99-220-011 | NYSEG Solutions, Inc.
| ER97-3553-002, ER97-3553-001, ER97-3553-003 | Rochester Gas and Electric Corporation.
| ER01-1764-002, ER01-1764-003,
| ER00-262-004, ER00-262-005 | PEI Power II, LLC. South Glens Falls Energy, LLC.
| ER05-731-000 | Central Maine Power Company.
E-36 | OMITTED
E-37 | ER04-834-001, ER00-1737-004, ER00-1737-005, ER00-1737-006, ER00-2839-002 | Virginia Electric and Power Company.
| ER02-24-002, ER02-24-004, ER02-24-005 | Armstrong Energy Limited Partnership, LLLP.
| ER01-468-001, ER01-468-003 | Dominion Energy Marketing, Inc.
| ER00-3621-002, ER00-3621-004 | Dominion Nuclear Connecticut, Inc.
| ER00-3620-002, ER00-3620-003 | Dominion Nuclear Marketing I, Inc.
| ER00-3619-002, ER00-3619-003 | Dominion Nuclear Marketing II, Inc.
| ER00-3746-003, ER00-3746-005, ER00-3746-006 | Dominion Nuclear Marketing III, L.L.C.
| ER02-22-002, ER02-22-004 | Dresden Energy, LLC.
| ER99-1695-002, ER99-1695-004, ER99-1695-005 | Elwood Energy, LLC.
| ER02-23-002, ER02-23-006 | Fairless Hills Energy, LLC.
| ER99-1432-002, ER99-1432-005, ER99-1432-006 | Kincaid Generation, L.L.C.
| ER02-26-002, ER02-26-004 | Pleasants Energy, LLC.
| ER96-2869-005, ER96-2869-007, ER96-2869-008 | State Line Energy, L.L.C.
| ER02-25-002, ER02-25-004 | Troy Energy, LLC.
E-38 | OMITTED
E-39 | ER97-3359-003, ER97-3359-005, ER97-3359-006, ER97-3359-007, ER97-3359-008 | Florida Power & Light Company.
| ER02-2559-001, ER02-2559-002, ER02-2559-003, ER02-2559-004 | Backbone Mountain Windpower LLC.
| ER01-1071-002, ER01-1071-003, ER01-1071-004, ER01-1071-005 | Badger Windpower, LLC.
| ER02-669-002, ER02-669-004 | Bayswater Peaking Facility, LLC.
| ER02-2018-004, ER02-2018-002 | Blythe Energy, LLC.
| ER01-2074-002. ER01-2074-003, ER01-2074-004, ER01-2074-005 | Calhoun Power Company I, LLC.
| ER90-80-001, ER90-80-002, ER90-80-003, ER00-2391-004 | Doswell Limited Partnership.
| ER98-2494-006, ER98-2494-004, ER98-2494-007 | ESI Vansycle Partners, L.P.
| ER00-3068-002, ER00-3068-003, ER00-3068-004, ER00-3068-005 | FPL Energy Cape, LLC.
| ER03-34-001, ER03-34-002, ER03-34-003, ER03-34-004 | FPL Energy Hancock County Wind, LLC.
| ER98-3511-006, ER98-3511-007, ER98-3511-008, ER98-3511-009 | FPL Energy Maine Hydro, Inc.
| ER02-1903-003, ER02-1903-001 | FPL Energy Marcus Hook, LP.
| ER98-3562-006, ER98-3562-007, ER98-3562-008 | FPL Energy Mason, LLC.
| ER99-2917-003, ER99-2917-004, ER99-2917-005, ER99-2917-007 | FPL Energy MH 50, L.P.
| ER03-179-004, ER03-179-002 | FPL New Mexico Wind, LLC.
| ER02-2166-001, ER02-2166-003, ER02-2166-004 | FPL Pennsylvania Windfarms, Inc.
| ER98-3566-009, ER98-3566-010, ER98-3566-011, ER98-3566-012 | FPL Energy Power Marketing, Inc.
| ER02-2120-002 | FPL Energy Rhode Island State Energy, L.P.
| ER02-1838-003, ER02-1838-001 | FPL Energy Seabrook, LLC.
| ER01-838-002, ER01-838-003, ER01-838-004, ER01-838-005 | FPL Energy Vansycle, LLC.
| ER98-3563-006, ER98-3563-007, ER98-3563-008, ER98-3563-009 | FPL Energy Wyman, LLC.
| ER98-3564-006, ER98-3564-007, ER98-3564-008, ER98-3564-009 | FPL Energy Wyman IV, LLC.
| ER01-1972-002, ER01-1972-003, ER01-1972-004, ER01-1972-005 | Gray County Wind Energy, LLC.
| ER98-2076-006, ER98-2076-005, ER98-2076-007, ER98-2076-008 | Hawkeye Power Partners, LLC.
| ER03-155-003, ER03-155-001 | High Winds, LLC.
| ER03-623-003, ER03-623-004, ER03-623-005 | Jamaica Bay Peaking Facility, LLC.
| ER98-4222-001, ER98-4222-002, ER98-4222-004 | Lake Benton Power Partners II, LLC.
| ER01-1710-003, ER01-1710-002, ER01-1710-005 | Mill Run Windpower, LLC.
| ER01-2139-004, ER01-2139-003, ER01-2139-006 | Somerset Windpower, LLC.
| ER98-1965-003, ER98-1965-002, ER98-1965-005 | West Texas Wind Energy Partners, LP.
E-40 | ER96-1361-007, ER96-1361-008 | Atlantic City Electric Company.
| ER98-4138-003, ER98-4138-004 | Potomac Electric Power Company.
| ER99-2781-005, ER99-2781-006, ER99-2781-002 | Delmarva Power & Light Company.
| ER98-3096-009, ER98-3096-008, ER98-3096-010 | PEPCO Energy Services, Inc.
| ER01-202-002, ER01-202-003, ER01-202-001 | Potomac Power Resources, Inc.
| ER00-1770-008, ER00-1770-009, ER00-1770-004 | Conectiv Energy Supply, Inc., Conectiv Atlantic Generation, LLC and Conectiv Delmarva Generation, Inc.
| ER02-453-004, ER02-453-005 | Conectiv Bethlehem, LLC.
| ER04-472-001, ER04-472-002 | Fauquier Landfill Gas, LLC.
| ER04-529-001, ER04-529-002 | Rolling Hills Landfill Gas, LLC.
E-41 | ER01-1265-002, ER01-1265-004, ER01-1265-005 | Mirant Americas Energy Marketing, LP.
| ER01-1263-002, ER01-1263-003, ER01-1263-004, ER01-1263-005 | Mirant Zeeland, LLC.
| ER01-1266-002, ER01-1266-004, ER01-1266-005 | Mirant Bowline, LLC.
| ER01-1267-002, ER01-1267-003, ER01-1267-004, ER01-1267-005, ER01-1267-006 | Mirant California, LLC.
| ER01-1268-003, ER01-1268-005, ER01-1268-006 | Mirant Canal, LLC.
| ER01-1269-002, ER01-1269-003, ER01-1269-004, ER01-1269-005 | Mirant Chalk Point, LLC.
| ER01-1270-002, ER01-1270-003, ER01-1270-004, ER01-1270-005, ER01-1270-006 | Mirant Delta, LLC.
| ER01-1271-003, ER01-1271-005, ER01-1271-006 | Mirant Kendall, LLC.
| ER01-1272-002, ER01-1272-004, ER01-1272-005 | Mirant Lovett, LLC.
| ER01-1273-002, ER01-1273-003, ER01-1273-004, ER01-1273-005 | Mirant Mid-Atlantic, LLC.
| ER01-1274-003, ER01-1274-005, ER01-1274-006 | Mirant New England, LLC.
| ER01-1275-002, ER01-1275-004, ER01-1275-005 | Mirant NY-Gen, LLC.
| ER01-1276-002, ER01-1276-003, ER01-1276-004, ER01-1276-005 | Mirant Peaker, LLC.
| ER01-1277-002, ER01-1277-003, ER01-1277-004, ER01-1277-005 | Mirant Potomac River, LLC.
| ER01-1278-002, ER01-1278-003, ER01-1278-004, ER01-1278-005, ER01-1278-006 | Mirant Potrero, LLC.
| ER02-537-002, ER02-537-004, ER02-537-005 | Shady Hill Power Co., LLC.
| ER02-900-001, ER02-900-003, ER02-900-004 | Mirant Sugar Creek, LLC.
| ER02-1028-001, ER02-1028-003, ER02-1028-004 | Wrightsville Power Facility, LLC.
| ER02-1052-001, ER02-1052-003, ER02-1052-004 | West Georgia Generating Co., LLC.
| ER02-1213-001, ER02-1213-003, ER02-1213-004 | Mirant Energy Trading, LLC.
| ER02-1331-002, ER02-1331-004, ER02-1331-006 | Mirant Oregon, LLC.
| ER03-160-001, ER02-900-003, ER02-900-004 | Mirant Las Vegas, LLC.
E-42 | OMITTED
E-43 | ID-4187-000 | Corbin A. McNeill, Jr.
E-44 | PA04-10-000, PA04-12-000 | Florida Power Corporation, Carolina Power & Light Company.
E-45 | RM05-13-000 | Electronic Filing of Interlocking Positions and Twenty Largest Purchasers Information.
E-46 | RM05-15-000 | Modifications of Nuclear Plant Decommissioning Trust Fund Guidelines.
E-47 | RM05-11-000 | Electronic Filing of the Application for Authorization for the Issuance of Securities or the Assumption of Liabilities.
E-48 | EL05-69-000, EL05-69-001, EL05-69-002, QF93-126-004, QF93-126-005, QF93-126-006, QF93-126-007 | Birchwood Power Partners, L.P.
E-49 | EL05-79-000, ER05-723-000, ER05-723-001 | TransCanada Power (Castleton) LLC.
E-50 | EL04-84-000 | Entergy Services, Inc.
E-51 | EL05-56-000 | Connecticut Department of Public Utility Control v. Bangor-Hydro Electric Company, Central Maine Power Company, NSTAR Electric & Gas Corporation on behalf of its affiliates: Boston Edison Company, Commonwealth Electric Company, Cambridge Electric Light Company and Canal Electric Company.
|  | New England Power Company, Northeast Utilities Service Company on behalf of its operating company affiliates: Connecticut Light and Power Company, Western Massachusetts Electric Company, Public Service Company of New Hampshire, Holyoke Power and Electric Company and Holyoke Water Power Company, The United Illuminating Company, Vermont Electric Power Company, Central Vermont Public Service Corporation, Green Mountain Power Corporation and Florida Power & Light Company-New England Division.
E-52 | EL05-89-000 | Maine Public Utilities Commission v. Central Maine Power Company and Bangor Hydro-Electric Company.
E-53 | OMITTED
E-54 | EL05-85-000 | Adrian Energy Associates, LLC, Cadillac Renewable Energy, LLC, Genesee Power Station LP, Grayling Generating Station, LP, Hillman Power Company, LLC, T.E.S Filer City Station, LP, Viking Energy of Lincoln, Inc. and Viking Energy of McBain, Inc. v. Michigan Public Service Commission, Commissioner J. Peter Lark, Commissioner Robert B. Nelson and Commissioner Laura Chapelle.
E-55 | ER02-485-004 | Midwest Independent Transmission System Operator, Inc.
E-56 | OMITTED
E-57 | EL05-109-000 | Tax Deduction for Manufacturing Activities Under American Jobs Creation Act of 2004.
E-58 | AC05-17-000 | Baltimore Gas and Electric Company.
E-59 | ER03-1247-003, ER03-1247-004, ER03-1247-001, ER03-1247-002 | Northeast Utilities Service Company.
E-60 | ER04-898-000, ER04-898-001 | Virginia Electric and Power Company.
E-61 | ER00-565-011 | Pacific Gas and Electric Company.
E-62 | ER04-152-000 | Nevada Power Company.
E-63 | EL05-15-002 | Arkansas Electric Cooperative Corporation v. Entergy Arkansas, Inc.
| EL04-134-002 | East Texas Electric Cooperative, Inc. v. Entergy Arkansas, Inc.
E-64 | ER04-901-000 | Entergy Services, Inc.
E-65 | RM04-14-001 | Reporting Requirement for Changes in Status for Public Utilities With Market-Based Rate Authority.
E-66 | OMITTED
E-67 | ER05-69-001 | Boston Edison Company.
E-68 | EL05-17-001 | KeySpan-Ravenswood, LLC v. New York Independent System Operator, Inc.
E-69 | EL05-58-001 | ConocoPhillips Company, and Equilon Enterprises LLC dba Shell Oil Products U.S. v. Los Angeles Department of Water and Power.
E-70 | ER05-215-001, ER05-215-002 | Midwest Independent Transmission System Operator, Inc.
E-71 | OMITTED
E-72 | OMITTED
E-73 | EL05-57-001 | Williams Power Company, Inc. v. California Independent Systems Operator Corporation.
E-74 | OMITTED
E-75 | ER96-719-002, EL04-106-001, EL04-106-000, ER96-719-003, ER96-719-004 | MidAmerican Energy Company.
E-76 | EL02-113-009, EL03-180-009, EL03-154-006 | El Paso Electric Company, Enron Power Marketing, Inc., and Enron Capital and Trade Resources Corporation, Enron Power Marketing, Inc. and Enron Energy Services, Inc.
E-77 | ER01-1639-007 | Pacific Gas and Electric Company.
E-78 | ER02-2560-004 | Louisville Gas and Electric Company and Kentucky Utilities Company v. East Kentucky Power Cooperative, Inc.
E-79 | ER04-609-003, ER04-609-004 | California Independent System Operator Corporation.
E-80 | ER00-2019-015, ER01-819-008, ER03-608-005 | California Independent System Operator Corporation.
E-81 | EL03-180-008, EL03-154-005, EL02-115-011 | Enron Power Marketing, Inc.
E-82 | OMITTED
E-83 | OMITTED
E-84 | ER98-3809-000 | 3E Technologies, Inc.
| ER97-2867-000 | AC Power Corporation.
| ER99-2369-000 | ACES Power Marketing LLC.
| ER98-4685-000 | ACN Power, Inc.
| ER00-105-000 | AI Energy, Inc.
| ER03-0770-000 | AIG Energy, Inc.
| ER96-1818-000 | Alliance Power Marketing, Inc.
| ER97-512-000 | A'Lones Group, Inc.
| ER00-861-000 | Alrus Consulting, LLC.
| ER96-1145-000 | Alternate Power Source, Inc.
| ER01-1758-000 | Altorfer Inc.
| ER97-1932-000 | American Cooperative Services, Inc.
| ER97-464-000 | Amvest Coal Sales, Inc.
| ER97-2045-000 | Amvest Power, Inc.
| ER99-2792-000 | Archer Daniels Midland Company.
| ER98-3378-000 | Astra Power, LLC.
| ER97-2132-000 | Atlantic Energy Technologies, Inc.
| ER01-2355-000 | Beacon Generating, LLC.
| ER00-679-000 | Black River Power, LLC.
| ER98-1821-000 | Bollinger Energy Corporation.
| ER97-886-000 | Brooklyn Navy Yard Cogeneration Partners, LP.
| ER98-4515-000 | Cadillac Renewable Energy LLC.
| ER98-701-000 | California Polar Power Broker, L.L.C.
| ER01-1701-000 | Callaway Golf Company.
| ER99-1875-000 | Canadian Niagara Power Company, Ltd.
| ER01-2692-000 | Canastota Windpower, LLC.
| ER00-2945-000 | Candela Energy Corporation.
| ER01-2138-000 | Capital Energy, Inc.
| ER01-1183-000 | Celerity Energy of New Mexico, LLC.
| ER01-390-000 | Chandler Wind Partners, Inc.
| ER96-2640-000 | CHI Power Marketing, Inc.
| ER90-225-000 | Chicago Electric Trading, L.L.C.
| ER99-964-000 | Cielo Power Market, L.P.
| ER00-2187-000 | CMS Distributed Power, L.L.C.
| ER97-1968-000 | Colonial Energy, Inc.
| ER90-24-000 | Commonwealth Atlantic L.P.
| ER97-4253-000 | Commonwealth Energy Corporation.
| ER01-1836-000 | Community Energy, Inc.
| ER98-1790-000 | Competisys LLC.
| ER01-2562-000 | Competitive Energy Services, LLC.
| ER03-428-000 | ConocoPhillips Company.
| ER96-1410-000 | Cook Inlet Energy Supply L.P.
| ER01-544-000 | Cook Inlet Power, LP.
| ER96-2624-000 | Cumberland Power, Inc.
| ER01-138-000 | Delta Person Limited Partnership.
| ER01-2071-000 | Desert Power, L.P.
| ER02-1866-000 | Desert Southwest Power, LLC.
| ER94-1161-000 | Direct Electric Inc.
| ER94-1099-000 | Eclipse Energy, Inc.
| ER99-3098-000 | EGC 1999 Holding Company, L.P.
| ER94-1478-000 | Electrade Corporation.
| ER00-3358-000 | Energy Alternatives, Inc.
| ER98-2020-000 | Energy Clearinghouse Corp.
| ER03-1294-000 | Energy Cooperative of New York, Inc.
| ER98-2918-000 | Energy PM, Inc.
| ER96-358-000 | Energy Resource Management Corp.
| ER01-2221-000 | Energy Transfer-Hanover Ventures, LP.
| ER00-874-000 | Energy West Resources, Inc.
| ER96-138-000 | EnergyOnline, Inc.
| ER99-2061-000 | Enjet, Inc.
| ER99-254-000 | ENMAR Corporation.
| ER01-1166-000 | Enron Sandhill Limited Partnership.
| ER96-2964-000 | Enserco Energy Inc.
| ER98-3233-000 | Environmental Resources Trust, Inc.
| ER01-2439-000 | Equitec Power, LLC.
| ER01-666-000 | EWO Marketing, L.P.
| ER97-382-000 | Exact Power Co., Inc.
| ER00-3039-000 | Exeter Energy Limited Partnership.
| ER96-918-000 | Federal Energy Sales, Inc.
| ER00-1258-000 | First Electric Cooperative Corporation.
| ER97-3580-000 | First Power, LLC.
| ER99-2454-000 | Florida Keys Electric Cooperative Association, Inc.
| ER02-687-000 | FMF Energy, Inc.
| ER00-2706-000 | Foote Creek IV, LLC.
| ER96-795-000 | Gateway Energy Marketing.
| ER96-1933-000 | Gelber Group, Inc.
| ER01-1078-000 | George Colliers, Inc.
| ER01-2405-000 | GNA Energy, LLC.
| ER98-4334-000 | Golden Valley Power Company.
| ER99-4324-000 | Green Mountain Energy Company.
| ER98-2535-000 | Hafslund Energy Trading LLC.
| ER01-1760-000 | Haleywest L.L.C.
| ER01-2159-000 | Hermiston Generating Company, L.P.
| ER02-1257-000 | Hermiston Power Partnership.
| ER01-3023-000 | Hinson Power Company, LLC.
| ER01-2129-000 | Holt Company of Ohio.
| ER96-1819-000 | ICC Energy Corporation.
| ER01-2395-000 | IDACORP Energy, LP.
| ER95-802-000 | IEP Power Marketing, LLC.
| ER98-3478-000 | INFINERGY Services, LLC.
| ER00-1519-000 | InPower Marketing Corporation.
| ER94-6-000 | InterCoast Power Marketing Company.
| ER01-688-000 | IPP Energy LLC.
| ER00-2306-000 | It's Electric & Gas, L.L.C.
| ER95-784-000 | J. Anthony & Associates, Ltd.
| ER95-295-000 | Kaztex Energy Ventures, Inc.
| ER95-232-000 | Kimbal Power Company.
| ER03-1259-000 | Kloco Corporation.
| ER95-1018-000 | Kohler Company.
| ER97-2904-000 | Lake Benton Power Partners, LLC.
| ER94-1672-000 | Lambda Energy Marketing Company.
| ER99-3554-000 | Lone Star Steel Sales Company.
| ER02-30-000 | Longhorn Power, LP.
| ER96-1947-000 | LS Power Marketing, LLC.
| ER01-1507-000 | Lumberton Power, LLC.
| ER00-1781-000 | Marquette Energy, LLC.
| ER98-1992-000 | Medical Area Total Energy Plant, Inc.
| ER99-801-000 | Metro Energy Group, LLC.
| ER01-95-000 | Miami Valley Lighting, Inc.
| ER99-1156-000 | Michigan Gas Exchange, L.L.C.
| ER95-78-000 | Mid-American Resources, Inc.
| ER96-2027-000 | Midwest Energy, Inc.
| ER99-3125-000 | Minergy Neenah, L.L.C.
| ER99-1293-000 | Monmouth Energy, Inc.
| ER96-2143-000 | Monterey Consulting Associates, Inc.
| ER01-2509-000 | Morrow Power, LLC.
| ER99-2324-000 | MPC Generating, LLC.
| ER97-610-000 | Murphy Oil USE, Inc.
| ER95-1278-000 | NAP Trading and Marketing, Inc.
| ER95-1374-000 | National Fuel Resources, Inc.
| ER94-1593-000 | National Power Exchange Corp.
| ER95-192-000 | National Power Management Company.
| ER01-352-000 | National Gas Trading Corporation.
| ER98-2618-000 | Nautilus Energy Company.
| ER99-2537-000 | Navitas, Inc.
| ER97-2681-000 | New Millennium Energy Corp.
| ER96-1122-000 | NFR Power, Inc.
| ER96-2892-000 | NGTS Energy Services.
| ER96-2585-000 | Niagara Mohawk Power Corp.
| ER98-1915-000 | Nine Energy Services, LLC.
| ER99-2384-000 | NJR Energy Services Company.
| ER00-795-000 | Nordic Electric, L.L.C.
| ER01-2224-000 | Nordic Energy Barge 1 & 2, L.L.C.
| ER00-774-000 | Nordic Marketing, L.L.C.
| ER94-152-000 | North American Energy Conservation, Inc.
| ER02-245-000 | North American Energy, L.L.C.
| ER97-1716-000 | North Atlantic Utilities Inc.
| ER01-904-000 | North Carolina Power Holdings, LLC.
| ER98-622-000 | North Star Power Marketing, LLC.
| ER02-41-000 | North Western Energy Marketing, LLC.
| ER98-3048-000 | Northeast Electricity Inc.
| ER98-1125-000 | Northeast Empire L.P. #2.
| ER01-1479-000 | Northwest Regional Power, LLC.
| ER02-845-000 | Northwestern Wind Power, LLC.
| ER99-2774-000 | NP Energy Inc.
| ER02-246-000 | NSTAR Companies.
| ER97-181-000 | Oceanside Energy, Inc.
| ER01-2783-000 | ODEC Power Trading, Inc.
| ER99-2883-000 | Old Mill Power Company.
| ER02-1029-000 | Oncor Electric Delivery Company.
| ER97-18-000 | P&T Power Company.
| ER95-379-000 | Peak Energy, Inc.
| ER03-372-000 | Peak Power Generating Company.
| ER98-3719-000 | People's Electric Corp.
| ER95-430-000 | Phibro Power LLC.
| ER02-417-000 | Phoenix Wind Power LLC.
| ER01-1821-000 | Power Dynamics, Inc.
| ER95-72-000 | Power Exchange Corporation.
| ER99-3275-000 | Power Management Co., LLC.
| ER96-2303-000 | Power Providers Inc.
| ER97-3187-000 | Power Systems Group, Inc.
| ER96-1-000 | Powertec International, LLC.
| ER98-4333-000 | Primary Power Marketing, L.L.C.
| ER01-2463-000 | Pro-Energy Development, LLC.
| ER95-968-000 | Progas Power Inc.
| ER99-4380-000 | Proliance Energy, L.L.C.
| ER99-1876-000 | PS Energy Group, Inc.
| ER96-404-000 | Questar Energy Trading Company.
| ER00-23-000 | Rayburn Country Electric Cooperative, Inc.
| ER02-809-000 | Renewable Energy Resources LLC.
| ER01-2760-000 | Ridge Crest Wind Partners, LLC.
| ER96-1516-000 | SEMCOR Energy.
| ER01-1121-000 | SF Phosphates Limited Company, LLC.
| ER99-2109-000 | Shell Energy Services Company, LLC.
| ER98-2603-000 | Southwood 2000, Inc.
| ER95-362-000 | Stand Energy Corporation.
| ER01-542-000 | STI Capital Company.
| ER98-4643-000 | Storm Lake Power Partner I, LLC.
| ER99-1228-000 | Storm Lake Power Partners II, LLC.
| ER96-3107-000 | Strategic Energy, LLC.
| ER00-167-000 | Strategic Energy Management Corp.
| ER96-2591-000 | Strategic Power Management, Inc.
| ER99-1410-000 | StratErgy, Inc.
| ER97-870-000 | Sunoco Power Marketing, L.L.C.
| ER96-2524-000 | Symmetry Device Research, Inc.
| ER00-1250-000 | Tacoma Energy Recovery Company.
| ER95-581-000 | Tennessee Power Company.
| ER95-1787-000 | Texaco Natural Gas Inc.
| ER97-4185-000 | Texas-New Mexico Power Co.
| ER01-2694-000 | The Energy Group of America, Inc.
| ER99-3571-000 | The Legacy Energy Group, LLC.
| ER96-2241-000 | Thicksten Grimm Burgum, Inc.
| ER02-298-000 | Thompson River Co-Gen, LLC.
| ER01-373-000 | Tiger Natural Gas, Inc.
| ER00-494-000 | TransAlta Centralia Generation, LLC.
| ER98-3184-000 | TransAlta Energy Marketing (CA) Inc.
| ER98-1055-000 | TransAlta Energy Marketing (US) Inc.
| ER96-1316-000 | TransAlta Energy Marketing Corp.
| ER01-3148-000 | TransAlta Energy Marketing Corp. (US).
| ER95-692-000 | TransCanada Energy Ltd.
| ER98-564-000 | TransCanada Power Marketing, Ltd.
| ER01-2234-000 | Travis Energy & Environment, Inc.
| ER97-3428-000 | Tri-Valley Corporation.
| ER96-105-000 | U.S. Power & Light, Inc.
| ER96-3092-000 | United American Energy Corp.
| ER93-3-000 | United Illuminating Company.
| ER01-1709-000 | VIASYN, Inc.
| ER02-1046-000 | Walton County Power, LLC.
| ER96-2830-000 | Washington Gas Energy Services, Inc.
| ER98-537-000 | Western Energy Marketers, Inc.
| ER00-1928-000 | Western New York Wind Corporation.
| ER02-2001-000 | Electric Quarterly Reports.
E-85 | ER95-892-055 | CL Power Sales One, LLC.
| ER95-892-056, ER95-892-057 | CL Power Sales Two, LLC.
| ER96-2652-049 | CL Power Sales Seven, LLC.
| ER96-2652-050 | CL Power Sales Eight, LLC.
| ER96-2652-051 | CL Power Sales Ten, LLC.
E-86 | ER04-449-003 | New York Independent System Operator, Inc., New York Transmission Owners.
E-87 | ER95-1007-014, ER95-1007-018 | Logan Generating Company, L.P.
| ER00-1742-001, ER00-1742-002 | Madison Windpower, LLC.
| ER01-2741-002, ER01-2741-003 | Plains End, LLC.
E-88 | OMITTED
Markets, Tariffs, and Rates—Gas
G-1 | RM05-2-000 | Policy for Selective Discounting by Natural Gas Pipelines.
G-2 | RP05-20-002, RP05-21-002 | Columbia Gulf Transmission Company, Columbia Gas Transmission Corporation.
G-3 | RP05-267-000, RP97-406-033, RP00-15-005, RP00-344-004, RP00-632-014 | Dominion Transmission, Inc.
G-4 | AI05-1-000 | Jurisdictional Public Utilities and Licensees, Natural Gas Companies, Oil Pipeline Companies.
G-5 | RP05-278-000 | Guardian Pipeline, L.L.C.
G-6 | PR05-7-000 | ONEOK WesTex Transmission L.P.
G-7 | PR04-9-000, PR04-9-001 | Bay Gas Storage Company, Ltd.
G-8 | OMITTED
G-9 | RP05-43-002 | Dominion Cove Point LNG LP.
G-10 | RP05-113-001, RP03-398-014, RP04-155-006, RP04-280-002, RP04-94-003 | Northern Natural Gas Company.
G-11 | RP04-201-005, RP04-201-004 | ANR Pipeline Company.
G-12 | RM05-12-000 | Modification of Natural Gas Reporting Regulations.
G-13 | RM05-14-000 | Revision of FERC Form No. 73, Oil Pipeline Data Filing Instructions.
G-14 | OMITTED
G-15 | TM99-6-29-009 | Transcontinental Gas Pipe Line Corporation.
G-16 | OR92-8-024, OR93-5-015, OR94-3-014, OR94-4-016 | SFPP, L.P.
| OR95-5-013 | Mobil Oil Corporation v. SFPP, L.P.
| OR95-34-012 | Tosco Corporation v. SFPP, LP
| OR96-2-010 OR96-2-011, OR96-10-007, OR96-10-009, OR98-1-009, OR98-1-011, OR00-4-002, OR00-4-004 | ARCO Products Co. a Division of Atlantic Richfield Company, Texaco Refining and Marketing Inc., and Mobile Corporation v. SFPP, L.P.
| OR96-2-003, OR96-2-004, OR96-10-008, OR96-10-009, OR96-17-004, OR96-17-006, OR97-2-004, OR97-2-005, OR98-2-005, OR98-2-007, OR00-8-005, OR00-8-007 | Ultramar Diamond Shamrock Corporation and Ultramar, Inc. v. SFPP, L.P.
| OR98-13-005, OR98-13-007, OR00-9-005, OR00-9-007 | Tosco Corporation v. SFPP, L.P.
| OR00-7-005, OR00-7-006 | Navajo Refining Corporation v. SFPP, L.P.
| OR00-10-005, OR00-10-006 | Refinery Holding Company.
| IS98-1-001, IS98-1-002 | SFPP, L.P.
G-17 | CP02-92-002 | AES Ocean Express LLC.
Energy Projects—Hydro
H-1 | P-287-009 | Midwest Hydro, Inc.
H-2 | P-1494-251 | Grand River Dam Authority
H-3 | RM05-18-000 | Modification of Hydropower Procedural Regulations, Including Deletion of Certain Outdated or Non-Essential Regulations.
H-4 | P-4656-018 | Boise Kuna Irrigation District, Nampa & Meridian Irrigation District, New York Irrigation District, Wilder Irrigation District, and Big Bend Irrigation District.
H-5 | P-11175-023 | Crown Hydro LLC.
H-6 | P-2493-027 | Puget Sound Energy, Inc.
H-7 | P-2030-036 | Portland General Electric Company and Confederated Tribes of the Warms Springs Reservation of Oregon.
Energy Projects—Certificates
C-1 | OMITTED |
C-2 | CP02-405-001 | SG Resources Mississippi, L.L.C.
C-3 | CP05-32-000, CP05-32-001 | Northwest Pipeline Corporation.
C-4 | CP05-50-000 | Colorado Interstate Gas Company
C-5 | OMITTED
C-6 | CP05-3-000 | CenterPoint Energy Gas Transmission Company.
C-7 | RM05-1-001 | Regulations Governing the Conduct of Open Seasons for Alaska Natural Gas Transmission Projects.
C-8 | RP05-234-000 | Marathon Oil Company v. Trailblazer Pipeline Company.
C-9 | OMITTED

Magalie R. Salas,
Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 05-10387 Filed 5-20-05; 8:25 am]

BILLING CODE 6717-01-P